DEPARTMENT OF COMMERCE

National Oceanic and Atmospheric Administration

[I.D. 040607D]

Marine Mammals; File No. 555-1870

AGENCY: National Marine Fisheries Service (NMFS), National Oceanic and Atmospheric Administration (NOAA), Commerce.

ACTION: Notice; issuance of permit.

SUMMARY: Notice is hereby given that James T. Harvey, Ph.D., Moss Landing Marine Laboratories, 8272 Moss Landing Road, Moss Landing, CA has been issued a permit to conduct scientific research on harbor seals (Phoca vitulina richardsi).

ADDRESSES: The permit and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249; and

Southwest Region, NMFS, 501 West Ocean Blvd., Suite 4200, Long Beach, CA 90802-4213; phone (562)980-4001; fax (562)980-4018.

FOR FURTHER INFORMATION CONTACT: Amy Sloan or Jaclyn Daly, (301)713-2289.

SUPPLEMENTARY INFORMATION: On December 29, 2006, notice was published in the Federal Register (71 FR 78407) that a request for a scientific research permit to take harbor seals had been submitted by the above-named individual. The requested permit has been issued under the authority of the Marine Mammal Protection Act of 1972, as amended (16 U.S.C. 1361 et seq.) and the regulations governing the taking and importing of marine mammals (50 CFR part 216).

The permit authorizes researchers to examine the biology and ecology and monitor health and condition of coastal populations of harbor seals in California, Oregon, Washington, and southeast Alaska over a 5-year period. Up to 670 harbor seals may be captured annually throughout the action area. An additional 2,910 individuals may be taken annually by harassment incidental to captures, scat collection, exposure to playback of vocalizations, and experimental disturbance activities. Up to 2 seal mortalities per year are authorized.

In compliance with the National Environmental Policy Act of 1969 (42 U.S.C. 4321 et seq.), a final determination has been made that the activity proposed is categorically excluded from the requirement to prepare an environmental assessment or environmental impact statement.

Dated: April 10, 2007.
P. Michael Payne,
Chief, Permits, Conservation and Education Division, Office of Protected Resources, National Marine Fisheries Service.

[FR Doc. E7-7379 Filed 4-17-07; 8:45 am]

BILLING CODE 3510-22-S